GOVERNMENT PUBLISHING OFFICE

Depository Library Council Meeting

AGENCY: U.S. Government Publishing Office.

ACTION: Notice of meeting.

SUMMARY: The Depository Library Council (DLC) will meet virtually on Thursday, May 2, 2024. The sessions will take place from 12:30 p.m. to 5:15 p.m. (EDT). The meetings will take place online, and anyone can register to attend at https://www.fdlp.gov/about/events-and-conferences/2024-depository-library-council-virtual-meeting. Closed captioning will also be provided. The purpose is to discuss matters affecting the Federal Depository Library Program and its transition to a digital program. All sessions are open to the public.

DATES: May 2, 2024.

Hugh Nathanial Halpern,
Director, U.S. Government Publishing Office.

[FR Doc. 2024-08040 Filed 4-15-24; 8:45 am]

BILLING CODE 1520-01-P